DEPARTMENT OF HEALTH AND HUMAN SERVICES

Centers for Disease Control and Prevention

Notice of Meeting

The National Institute for Occupational Safety and Health (NIOSH) of the Centers for Disease Control and Prevention (CDC) announces the following meeting.

Name: National Institute for Occupational Safety and Health (NIOSH), Standards Development Efforts for Full Facepiece Air-Purifying Respirators (APR) Used to Protect Emergency Response Workers Against Chemical, Biological, Radiological and Nuclear (CBRN) Agents.

Times and Dates: 1 p.m.-5 p.m., June 18, 2002. 9 a.m.-5 p.m., June 19, 2002.

Place: Sheraton Station Square, Pittsburgh, Pennsylvania.

Status: The meeting will be open to the public, limited only by the space available. The meeting room accommodates approximately 200 people.

Requests to make presentations at the public meeting should be mailed to the NIOSH Docket Officer, Robert A. Taft Laboratories, M/S C34, 4676 Columbia Parkway, Cincinnati, Ohio 45226, telephone (513) 533-8303, fax (513) 533-8285, or e-mailed to NIOCINDOCKET@CDC.GOV. All requests to present should contain the name, address, and telephone number, relevant business affiliations of the presenter, a brief summary of the presentation, and the approximate time requested for the presentation. Oral presentations should be limited to 15 minutes. After reviewing the requests for presentations, NIOSH will notify each presenter of the approximate time that their presentation is scheduled to begin. If a participant is not present when their presentation is scheduled to begin, the remaining participants will be heard in order. At the conclusion of the meeting, an attempt will be made to allow presentations by any scheduled participants who missed their assigned times. Attendees who wish to speak but did not submit a request for the opportunity to make a presentation may be given this opportunity at the conclusion of the meeting, at the discretion of the presiding officer.

The US. Army Soldier and Biological Chemical Command (SBCCOM) and National Institute for Standards and Technology (NIST) plan to hold a related meeting on June 20, 2002 at the same location to discuss the development of chemical and biological personal protection equipment standards and guidelines (other than respirators). They are the lead agencies associated with the development of standards for personal protective equipment, other than respirators, against CBRN agents. For information concerning this June 20, 2002 meeting, please contact: Ms. Elaine Stewart-Craig, Edgewood Chemical Biological Center, SBCCOM, 5183 Blackhawk Road, Aberdeen Proving Ground, MD 21010-5424, ATTN: AMSSB-REN-HD-T, telephone 410-436-2102, fax 410-436-2998, and/or e-mail Elaine.stewartcraig@sbccom.apgea.army.mil.

Comments on the topics presented in this notice and at the meeting should be mailed to the NIOSH Docket Office, Robert A. Taft Laboratories, M/S C34, 4676 Columbia Parkway, Cincinnati, Ohio 45226, telephone 513-533-8303, fax 513/533-8285. Comments may also be submitted by e-mail to: NIOCINDOCKET@CDC.GOV. E-mail attachments should be formatted as WordPerfect 6/7/8/9, or Microsoft Word. Comments should be submitted to NIOSH no later than July 15, 2002, and should reference docket number, NIOSH-002, in the subject heading.

Purpose: The purpose of the meeting is to present concepts for proposed approval standards and testing precesses for full facepiece Air-Purifying Respirators (APR) suitable for use by first responders against CBRN agents; concepts and priorities for the development and implementation of standards for other classes of respirators; and research work to identify stimulant materials for use as CBRN test surrogates for respirator research and development efforts. NIOSH and its standards development partners, U.S. Army Soldier and Biological Chemical Command (SBCCOM) and the National Institute for Standards and Technology (NIST), will present information to attendees concerning the development of the concepts and priorities being considered for the development of standards for the various classes of respirators. Participants will be given an opportunity to ask questions and to present individual comments that they may wish to have considered. Interested participants may obtain a copy of the APR CBRN standard concept paper from the NIOSH contact identified below, or from the NIOSH National Personal Protective Technology Laboratory Web site, address: http://www.cdc.gov/niosh/npptl.

Recent acts of terrorism have created an urgent awareness of domestic security and preparedness issues. Municipal, states, and federal responder groups, particularly those in locations considered potential targets, have been developing and modifying response and consequence management plans. Since the World Trade Center and anthrax incidents, most emergency response agencies have operated with a heightened appreciation of the potential scope and sustained resources requirements for coping with such events. The federal Interagency Board for Equipment Standardization and Interoperability (IAB) has worked to identify personal protective equipment that is already available on the market for responders' use. The IAB has identified the development of standards or guidelines for respiratory protection equipment as a top priority. NIOSH, NIST, National Fire Protection Association and the Occupational Safety and Health Administration have entered into a Memorandum of Understanding defining each agency or organization's role in developing, establishing and enforcing standards or guidelines for responders' respiratory protective devices. NIST has initiated Interagency Agreements with NIOSH and SBCCOM to aid in the development of appropriate protection standards or guidelines. NIOSH has the lead in developing standards or guidelines to test, evaluate and approve respirators.

NIOSH, SBCCOM, and NIST hosted a public meeting April 17 and 18, 2001, and presented their progress in assessing respiratory protection needs of responders to chemical, biological, radiological and nuclear incidents. The methods or models for developing hazard and exposure estimates, and the status in evaluating test methods and performance standards that may be applicable as future chemical biological, radiological, and nuclear respirator standards or guidelines were discussed at that meeting. On December 28, 2001, NIOSH announced standards for the evaluation and approval of Self Contained Breathing Apparatus to protect emergency responders against chemical, biological, radiological, and nuclear agents. NIOSH and SBCCOM are in the process of developing chemical, biological, radiological and nuclear respiratory protection standards and guidelines for full facepiece Air-Purifying Respirators (APR) as well as other classes of respirators. The June 18 and 19, 2002 public meeting will provide an update on those activities.

FOR FURTHER INFORMATION CONTACT: Mr. Jonathan Szalajda, NIOSH, PO Box 18070, 626 Cochrans Mill Road, Pittsburgh, PA 15236, telephone 412/386-6627, fax 412/386-6747 and/or e-mail: respcert@cdc.gov.

The Director, Management Analysis and Services Office, has been delegated the authority to sign Federal Register Notices pertaining to announcements of meetings and other committee management activities, for both the Centers for Disease Control and Prevention and the Agency for Toxic Substances and Disease Registry.

Dated: May 24, 2002.
John Burckhardt,
Acting Director, Management Analysis and Services Office, Centers for Disease Control and Prevention.

[FR Doc. 02-13639 Filed 5-30-02; 8:45 am]

BILLING CODE 4163-18-P